DEPARTMENT OF THE INTERIOR

Fish and Wildlife Service

Notice of Intent To Revise a Comprehensive Conservation Plan and Associated Environmental Impact Statement for the Izembek National Wildlife Refuge, Cold Bay, AK

AGENCY: Fish and Wildlife Service, Department of the Interior.

ACTION: Notice of intent.

SUMMARY: This notice advises the public that the U.S. Fish and Wildlife Service (Service) intends to gather information necessary to revise the Comprehensive Conservation Plan (Plan) and an associated Environmental Impact Statement, pursuant to the National Environmental Policy Act and its implementing regulations, for the Izembek National Wildlife Refuge, which includes the Unimak Island unit of the Alaska Maritime National Wildlife Refuge and the North Creek and Pavlof units of Alaska Peninsula National Wildlife Refuge, headquartered in Cold Bay, Alaska. The Service is furnishing this notice in compliance with the National Wildlife Refuge System Administration Act of 1966, as amended, and with Service planning policy to advise other agencies and the public of our intentions and to obtain suggestions and information on the scope of issues to be addressed in the environmental documents.

Special mailings, newspaper articles, and other media announcements will inform people of opportunities to provide written input throughout the planning process. Public meetings will be held in communities near the Refuge (e.g., Cold Bay, King Cove, False Pass, Sand Point, and Nelson Lagoon) and in the city of Anchorage. The Draft and Final Plans and associated Environmental Impact Statement will be available for viewing and downloading at www.r7.fws.gov/planning.

ADDRESSES: Address comments, questions, and requests to Maggi Arend, Planning Team Leader, U.S. Fish and Wildlife Service, 1011 East Tudor Rd. MS-231, Anchorage, AK 99503 or fw7_Izembek_planning@fws.gov.

FOR FURTHER INFORMATION, CONTACT: Maggi Arend, Planning Team Leader, US Fish and Wildlife Service, 1011 East Tudor Rd., MS-231, Anchorage, AK 99503 or fw7_Izembek_planning@fws.gov. Additional information concerning the Plan can be found at http://www.r7.fws.gov/planning and concerning the Refuge at http://refuges.fws.gov.

SUPPLEMENTARY INFORMATION: By Federal law (National Wildlife Refuge System Administration Act of 1966, as amended by the National Wildlife Refuge System Improvement Act of 1997 (Administration Act) [16 U.S.C. 668dd—668ee]), all lands within the National Wildlife Refuge System are to be managed in accordance with an approved Comprehensive Conservation Plan. Section 304(g) of the Alaska National Interest Lands Conservation Act (Pub. L. 96-487, 94 Stat. 2371) also directs that these plans be prepared. The Plan guides management decisions and identifies Refuge goals, long-range objectives, and strategies for achieving Refuge purposes. During the planning process, the planning team reviews a wide range of Refuge administrative requirements, including conservation of the Refuge's fish and wildlife populations and habitats in their natural diversity; facilitation of subsistence use by local residents and access for traditional recreational activities; and conservation of resource values, including cultural resources, wilderness, and wild rivers. The final revised Plan will detail the programs, activities, and measures necessary to best administer the Refuge to protect these values and to fulfill Refuge purposes. The Comprehensive Conservation Plan and associated Environmental Impact Statement will describe and evaluate a range of reasonable alternatives and the anticipated impacts of each. Public input into the planning process is essential.

The Plan will provide other agencies and the public with information to facilitate understanding of the desired conditions for the Refuge and how the Service will implement management strategies.

The Service will prepare an Environmental Impact Statement in accordance with procedures for implementing the National Environmental Policy Act of 1969 (42 U.S.C. 4321-4370d).

The Izembek National Wildlife Refuge (417,533 acres) and the North Creek (8,452 acres) and Pavlof (1,447,264 acres) units of the Alaska Peninsula National Wildlife Refuge are located at the westernmost tip of the Alaska Peninsula. The 1,008,697-acre Unimak Island (the easternmost Aleutian Island of the Alaska Maritime National Wildlife Refuge) lies across the Isanotski Strait.

To the north of the Izembek Refuge is the Bering Sea; to the south is the Pacific Ocean. The Alaska Peninsula is dominated by the rugged Aleutian Range, part of the Aleutian arc chain of volcanoes. Landforms include mountains, active volcanoes, U-shaped valleys, glacial moraines, low tundra wetlands, lakes, sand dunes, and lagoons. Elevations range from sea level to the 9,372-foot Shishaldin Volcano. Several major lagoons are within the Refuge boundary. These lagoons contain some of the world's largest eelgrass beds. The lagoons are under the jurisdiction of the State of Alaska. Izembek Lagoon is designated the Izembek State Game Refuge. Birds from all over the Arctic funnel through Izembek Refuge each fall on their way to wintering grounds throughout the world. More than 98 percent of the world's Pacific black brant use Izembek Lagoon as a staging area for their fall migration to Mexico. Other birds that use the Refuge include golden plovers, ruddy turnstones, western sandpipers, tundra swans, Steller's eiders and emperor geese. The Refuge also is home to large concentrations of brown bears and other large mammals such as caribou and wolves. The red, pink, chum, and silver salmon that use the waters within the refuge enrich the entire ecosystem with the nutrients they bring from the sea. The Refuge also has a rich human history, from ancient settlements of Alaska Natives, through the 18th and 19th century Russian fur traders, to a World War II outpost.

The Alaska National Interests Land Conservation Act of 1980, Section 302(1) and 303(1 and 3) sets forth the following major purposes for which the Izembek Refuge was established and is to be managed:

[Izembek] To conserve fish and wildlife populations and habitats in their natural diversity including, but not limited to, waterfowl, shorebirds and other migratory birds, brown bears and salmonoids;

[Alaska Peninsula] To conserve fish and wildlife populations and habitats in their natural diversity including, but not limited to, brown bears, the Alaska Peninsula caribou herd, moose, sea otters and other marine mammals, shorebirds and other migratory birds, raptors, including bald eagles and peregrine falcons, and salmonoid and other fish;

[Alaska Maritime] To conserve fish and wildlife populations and habitats in their natural diversity, including, but not limited to, marine mammals, marine birds and other migratory birds, the marine resources upon which they rely, bears, caribou, and other mammals;

To fulfill the international treaty obligations of the United States with respect to fish and wildlife and their habitats;

To provide, in a manner consistent with the purposes set forth above, the opportunity for continued subsistence uses by local residents; and

To ensure, to the maximum extent practicable and in a manner consistent with the purposes set forth above, water quality and necessary water quantity within the Refuge; and

[Alaska Maritime] To provide, in a manner consistent with the purposes set forth above, a program of national and international scientific research on marine resources.

The Comprehensive Conservation Plan for Izembek National Wildlife Refuge was completed in 1985. It is being revised consistent with Section 304(g) of the Alaska National Interest Lands Conservation Act, the National Wildlife Refuge System Improvement Act of 1997, and U.S. Fish and Wildlife Service planning policy.

Dated: November 7, 2003.
Rowan Gould,
Regional Director, U.S. Fish and Wildlife Service, Anchorage, Alaska.

[FR Doc. 03-29304 Filed 11-25-03; 8:45 am]

BILLING CODE 4510-55-P